NATIONAL SCIENCE FOUNDATION

Notice of Permit Modification Received Under the Antarctic Conservation Act of 1978

AGENCY: National Science Foundation.

ACTION: Notice of Permit Modification Request.

SUMMARY: The National Science Foundation (NSF) is required to publish a notice of requests to modify permits issued to conduct activities regulated under the Antarctic Conservation Act of 1978. This is the required notice of a requested permit modification.

DATES: Interested parties are invited to submit written data, comments, or views with respect to this permit application by October 12, 2018. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

1. Description of Permit Modification Requested: NSF issued a permit (ACA 2018-012) to Jay J. Rotella on October 16, 2017. The issued permit allows the permit holder to continue long-term studies of Weddell seal populations in Erebus Bay and the McMurdo Sound region to evaluate how temporal variation in the marine environment affects individual life histories and population dynamics of a long-lived mammal. These studies may require the permit holder and agents to enter into six ASPAs in the area. Research involves capture and release of up to 675 Weddell seal pups at one to four days after birth for flipper tagging per year. A recent modification to this permit, dated November 22, 2017, permitted the permit holder to increase the total take of Weddell seal pups for flipper tagging from 675 to 1000.

Now the permit holder proposes a modification to the permit to increase the number of takes allocated to certain permitted activities to reflect the same increases authorized earlier this year in NMFS Permit No. 21158-02. The take increases from those allowed under the ACA permit, as originally issued, would be as follows: Increase from 515 to 800 pups, flipper tagged once; increase from 10 to 20 pups, flipper tagged twice; increase from 285 to 385 adults, flipper tagged once; increase from 1325 to 1800 adults, harassment takes (4 per animal); increase from 675 to 910 pups, harassment takes (4 per animal); increase from 10 to 35 adults, salvage parts and vibrissae samples (3 per animal). These proposed changes would set the total number of takes of Weddell seal pups for flipper tagging to 970. The permit holder has also requested that a documentary film crew be allowed to accompany and film the permit holder and agents as they conduct the permitted activities this season.

Location: Erebus Bay, McMurdo Sound; ASPA 137, North-West White Island, McMurdo Sound; ASPA 155, Cape Evans; ASPA 121, Cape Royds; ASPA 157, Backdoor Bay, Cape Royds, Ross Island; ASPA 158, Hut Point, Ross Island; ASPA 161, Terra Nova Bay, Ross Sea.

Dates of Permitted Activities: October 1, 2018—September 30, 2022.

2. Description of Permit Modification Requested: The Foundation issued a permit (ACA 2018-013) to Linnea Pearson on October 16, 2017. The issued permit allows the permit holder to handle Weddell seal pups per year for the purposes of studying the thermoregulatory strategies by which the pups maintain euthermia in air and in water and examine the development of diving capability as the animals prepare for independent foraging. Each of the ten seal pups, separated into two cohorts of five each, were to be handled at four time points between one and eight weeks of age. Flipper-mounted ime/depth recorder tags were to be attached to 1-week-old seal pups and removed from the pups at 7-8 weeks of age. At the 3-week time point, accelerometer tags were to be attached to the dorsal pelage of the pups and then removed at 7-8 weeks of age. VHF radio transmitters were allowed to be attached to the seal pups dorsal, caudal pelage after molting. The collection of a single whisker by plucking from each seal pup was allowed at 7-8 weeks of age. Protocols not requiring sedation (mass, morphometrics, core and surface temperatures, metabolic rates) and protocols requiring anesthesia (body composition, biopsies, blood volume analysis) were to be conducted on the first cohort of five pups at all four time points. The sedative midazolam was to be used alone on 1-week-old pups in the first cohort, while a combination of midazolam and butorphanol was allowed for use in the first cohort at 3, 5, and 7-8 weeks of age time points. A combination of midazolam and ketamine could have been used on 7-8-week-old pups, if deemed necessary. Metabolic and morphometric measurements were to be conducted on a second, separate cohort of five pups at each of the four time points. Sedation of seal pups in the second cohort, with a combination of midazolam and butorphanol, was only allowed for study animals at 3 weeks of age for the purposes of attaching an accelerometer tag. The permit holder was also allowed to conduct behavioral observations, imaging, and may disturb up to 350 Weddell seals. An additional seven Weddell seal pups, 15 Weddell seal adult females, and 20 crabeater seals were allowed to be disturbed during procedures on study animals. Up to two pup mortalities were requested per year, not to exceed three over the course of two field seasons. The permit holder was also allowed to collect tissues from Weddell seals (any age or gender) found dead from natural causes.

Now the applicant proposes a modification to the permit to allow the following: Sedation of all seal pups at all time points using midazolam with or without butorphanol (and continue to have the option of using midazolam in combination with ketamine at 7-8 weeks of age); collection of blood samples from seal pups in the second cohort, at all four time points, while the pups are under sedation; use of a cannulated biopsy needle for muscle tissue sampling of seal pups in the first cohort (rather than a dermal biopsy punch), at all four time points; attachment of a flipper-mounted VHF transmitter tag to seal pups in both cohorts at 3 weeks of age, on the flipper opposite the one with the time/depth tag attached, with removal at the final time point; attachment of accelerometer tags to the dorsal pelage of 1-week-old pups in both cohorts with removal of the tags at 3 weeks of age; administration of antibiotics to treat local or systemic infections in seal pups involved in the study; and increased takes of seal pups and adult females such that a total of 12 pups would be handled for study purposes compared with 10 in the original permit (six pups in each cohort compared with five in the original permit) and a total of 12 adult females, the mothers of the pups, would be disturbed during the handling of the pups (10 in the original permit). The permit holder has also requested a modification of NMFS Permit No. 21006.

Location: Erebus Bay, McMurdo Sound; ASPA 121, Cape Royds.

Dates of Permitted Activities: October 1, 2018—September 30, 2020.

3. Description of Permit Modification Requested: The Foundation issued a permit (ACA 2017-005) to David Ainley on July 27, 2016. The issued permit allows the permit holder and agents to enter three Antarctic Specially Protected Areas (ASPAs); observe Adelie penguins; mark and measure penguin nests; attach tags, flipper bands, and special instruments to penguins; take small feather samples; and weigh and measure penguin chicks and adults. The permitted activities also include maintaining a webcam just inside the boundary of the Cape Royds ASPA.

Now the permit holder proposes a modification to the permit to attach a miniature video camera to adult Adelie penguins (n=40) to document activities during diving. The permit holder also proposes to engage the services of experienced pilots to operate remotely piloted aircraft systems (RPAS) to capture video imagery of penguin colonies for the purposes of census and quantifying habitat characteristics. The RPAS operations would occur within the boundaries of ASPA 121, Cape Royds, and ASPA 124, Cape Crozier.

Location: ASPA 121, Cape Royds; ASPA 124, Cape Crozier; ASPA 105, Beaufort Island; Cape Bird (outside ASPA boundary).

Dates of Permitted Activities: October 1, 2018—February 5, 2020.

Suzanne H. Plimpton,
Reports Clearance Officer, National Science Foundation.

[FR Doc. 2018-19822 Filed 9-11-18; 8:45 am]

BILLING CODE 7555-01-P